DEPARTMENT OF ENERGY

Federal Energy Regulatory Commission

Notice of Transfer of License and Soliciting Comments, Motions To Intervene, and Protests

November 29, 2001.

Take notice that the following application has been filed with the Commission and is available for public inspection:

a. Application Type: Transfer of License.

b. Project No: 3820-007.

c. Date Filed: November 16, 2001.

d. Applicants: General Electric Company (Transferor) and Southern New Hampshire Hydro-Electric Development Corp (Transferee).

e. Name and Location of Project: The Somersworth Hydroelectric Project is located on the Salmon Falls River in Stafford County, New Hampshire and York County, Maine.

f. Filed Pursuant to: Federal Power Act, 16 U.S.C. 791(a)-825(r).

g. Applicant Contacts: Mr. Mark E. Beliveau, Esquire, Sanders & McDermott, P.L.L.C., 234 Lafayette Road, Hampton, NH 03843-5070 (603) 926-8926/(fax) 603-926-0564, mbeliveau@samlaw.com (General Electric Company); John N. Webster, President, Southern New Hampshire Hydro-Electric Development Corp, 293 Main Street, P.O. Box 178, South Berwick, ME 03908, (207) 384-5334.

h. FERC Contact: Any questions on this notice should be addressed to Mr. Lynn R. Miles at (202) 219-2671.

i. Deadline for filing comments and or motions: January 7, 2002.

All documents (original and eight copies) should be filed with: David P. Boergers, Secretary, Federal Energy Regulatory Commission, 888 First Street, NE, Washington DC 20426. Comments, protests and interventions may be filed electronically via the Internet in lieu of paper. See, 18 CFR 385.2001(a)(1)(iii) and the instructions on the Commission's web site under the “e-Filing” link.

Please include the project number (P-3820-007) on any comments or motions filed.

j. Description of Proposal: Applicants propose a transfer of the license for 3820-000 from General Electric Company to Southern New Hampshire Hydro-Electric Development Corp. Substitution of Southern New Hampshire Hydro-Electric Development Corp for General Electric Company as licensee for this project is being sought in connection with Southern New Hampshire Hydro-Electric Development Corp's intended acquisition of project resources from General Electric Company.

k. Locations of the application: A copy of the application is available for inspection and reproduction at the Commission's Public Reference Room, located at 888 First Street, NE, Room 2A, Washington, DC 20426, or by calling (202) 208-1371. Copies of this filing are on file with the Commission and are available for public inspection. This filing may also be viewed on the Web at http://www.ferc.gov using the “RIMS” link, select “Docket#” and follow the instructions (call 202-208-2222 for assistance). A copy is also available for inspection and reproduction at the address in item g above.

l. Individuals desiring to be included on the Commission's mailing list should so indicate by writing to the Secretary of the Commission.

Comments, Protests, or Motions to Intervene—Anyone may submit comments, a protest, or a motion to intervene in accordance with the requirements of rules of practice and procedure, 18 CFR 385.210, .211, .214. In determining the appropriate action to take, the Commission will consider all protests or other comments filed, but only those who file a motion to intervene in accordance with the Commission's rules may become a party to the proceeding. Any comments, protests, or motions to intervene must be received on or before the specified comment date for the particular application.

Filing and Service of Responsive Documents—Any filings must bear in all capital letters the title “COMMENTS”, “PROTEST”, OR “MOTION TO INTERVENE”, as applicable, and the Project Number of the particular application to which the filing refers. An additional copy must be sent to the Director, Division of Hydropower Administration and Compliance, Federal Energy Regulatory Commission, at the above-mentioned address. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 01-30120 Filed 12-4-01; 8:45 am]

BILLING CODE 6717-01-P